DEPARTMENT OF COMMERCE

International Trade Administration

Submission for OMB Review; Comment Request

DOC has submitted to the Office for Management and Budget (OMB) for clearance the following proposal for collection of information under the provisions of the Paperwork Reduction Act of 1995, Public Law 104-13.

Title: SABIT Alumni Questionnaire.

OMB Number: None.

Type of Request: Regular Submission.

Burden: 1048 hours.

Number of Respondents: 1048.

Avg. Hours Per Response: 1 hour per participant.

Needs and Uses: The Department of Commerce, International Trade Administration, SABIT Office supports technical assistance and training for professionals from Eurasia, while promoting information exchange and U.S.-Eurasian partnerships. Since inception SABIT has trained over 3000 professionals from Eurasia.

The purpose of this questionnaire is to assess the effect the SABIT Program has had on its alumni, in order to make improvements to the program and report results.

Affected Public: SABIT Alumni.

Frequency: At least once per alumnus.

Respondent's Obligation: Voluntary. Participation is encouraged in order to perpetuate the program for future participants.

OMB Desk Officer: David Rostker, (202) 395-7340.

Copies of the above information collection proposal can be obtained by calling or writing Diana Hynek, Departmental Paperwork Clearance Officer, Department of Commerce, Room 6625, 14th & Constitution Avenue, NW., Washington, DC 20230; Phone number: (202) 482-0266; E-mail: dHynek@doc.gov.

Written comments and recommendations for the proposed information collection should be sent to David Rostker, OMB Desk Officer, Room 10202, New Executive Office Building, Washington, DC 20503 within 30 days of the publication of this notice in the Federal Register.

Dated: November 18, 2003.
Madeleine Clayton,
Management Analyst, Office of the Chief Information Officer.

[FR Doc. 03-29229 Filed 11-21-03; 8:45 am]

BILLING CODE 3510-HE-P